NATIONAL SCIENCE FOUNDATION

Notice of Permit Applications Received Under the Antarctic Conservation Act of 1978

AGENCY: National Science Foundation.

ACTION: Notice of permit applications received under the Antarctic Conservation Act of 1978, Public Law 95-541.

SUMMARY: The National Science Foundation (NSF) is required to publish a notice of permit applications received to conduct activities regulated under the Antarctic Conservation Act of 1978. NSF has published regulations under the Antarctic Conservation Act at Title 45 part 670 of the Code of Federal Regulations. This is the required notice of permit applications received.

DATES: Interested parties are invited to submit written data, comments, or views with respect to this permit application by December 7, 2015. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2016-022

1. Applicant; Joseph Wilson, Penguin Films LTd, 1 St Augustine's Lane, Bristol BS1 5DE United Kingdom.

Activity for Which Permit Is Requested

ASPA entry; Applicant requests entry to Cape Crozier, ASPA 124 in order to film an Adelie penguin documentary film for Disney. The applicant and team would use long lens filming techniques, which require the camera person to be at a distance from the animals in order to capture natural behaviors. The work would be observational and would not involve interactions with penguins. The team would be working with penguin scientists who conduct work in Cape Crozier.

Location

Cape Crozier, ASPA 124

Dates

December 25, 2015-February 10, 2015

Nadene G. Kennedy,
Polar Coordination Specialist, Division of Polar Programs.

[FR Doc. 2015-28195 Filed 11-4-15; 8:45 am]

BILLING CODE 7555-01-P